FEDERAL MARITIME COMMISSION

Ocean Transportation Intermediary License

Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
1857N | Air/Sea Forwarding Specialists, Inc., 3812 Springhill Avenue, Mobile, AL 36608 | June 19, 2002.
16779F | EAFF (USA), Inc., 8840 NW 102nd Street, Medley, FL 33178 | August 1, 2002.
17200F | Global Forwarding Corp., 10420 NW 37th Terrace, Miami, FL 33178 | May 12, 2002.
15655N | Millennium Plus, Inc., 10910 S. La Cienega Blvd., Inglewood, CA 90304 | August 9, 2002.
17135N | Next Day Cargo, Inc., 8805 32nd Lane, Miami, FL 33122 | July 25, 2002.
13709N | PAC West Trading & Transport, Inc. dba Pacwest Transport, 2531 West 237th Street, Suite 122, Torrance, CA 90505 | August 9, 2002.
17505N | Trans Logistics, Inc. dba World Express, 520 E. Carson Plaza Ct., Suite 205, Carson, CA 90746 | August 1, 2002.

Sandra L. Kusumoto,
Director, Bureau of Consumer Complaints and Licensing.

[FR Doc. 02-25058 Filed 10-1-02; 8:45 am]

BILLING CODE 6730-01-P